LIBRARY OF CONGRESS

Copyright Office

Notice of Inquiry and Request for Comments on the Topic of Facilitating Access to Copyrighted Works for the Blind or Persons With Other Disabilities; Notice of Public Meeting

AGENCY: United States Copyright Office, Library of Congress.

ACTION: Notice of inquiry and request for comments; notice of public meeting.

SUMMARY: The United States Copyright Office (Copyright Office) and the United States Patent and Trademark Office (USPTO) seek comment on the topic of facilitating access to copyrighted works for “blind or persons with other disabilities” ¹ in connection with a forthcoming meeting of the Standing Committee on Copyright and Related Rights of the World Intellectual Property Organization. Interested parties are invited to submit comments on the topics outlined in the supplementary information section of this notice. The Copyright Office and USPTO also announce a public meeting on the same topic.

¹ Various terms are used formally and informally throughout the world. When inquiring about experiences within the United States, the term used in this Notice of Inquiry is that which appears in U.S. copyright law. See 17 U.S.C. 121(d)(2). There, the term “blind or persons with other disabilities” is defined to include individuals who are eligible or who may qualify in accordance with the Act entitled “An Act to provide books for the adult blind,” approved March 3, 1931 (2 U.S.C. 135a; 46 Stat. 1487).

DATES: Initial comments on the Notice of Inquiry and Request for Comments are due on April 21, 2009. Reply comments are due on May 4, 2009. The public meeting will be held Monday, May 18, 2009, from 9:30 a.m. to 5:30 p.m.

ADDRESSES:

Notice of Inquiry and Request for Comments

If hand-delivered by a private party, an original and five copies of a comment or a reply comment should be brought to the Library of Congress, U.S. Copyright Office, Public Information Office, Room LM-401, 101 Independence Avenue, SE., Washington, DC 20559, between 8:30 a.m. and 5 p.m. The envelope should be addressed as follows: Office of Policy and International Affairs, U.S. Copyright Office. If delivered by a commercial courier, an original and five copies of a comment or reply comment must be delivered to the Congressional Courier Acceptance Site (CCAS) located at 2nd and D Streets, NE., Washington, DC, between 8:30 a.m. and 4 p.m. The envelope should be addressed as follows: Office of Policy and International Affairs, U.S. Copyright Office, Room LM-403, James Madison Building, 101 Independence Avenue, SE., Washington, DC 20559. Please note that CCAS will not accept delivery by means of overnight delivery services such as Fedex, United Parcel Service, or DHL. If sent by mail (including overnight delivery using U.S. Postal Service Express Mail), an original and five copies of a comment or reply comment should be addressed to U.S. Copyright Office, Office of Policy and International Affairs, Copyright GC/I & R, P.O. Box 70400, Washington, DC 20024.

Public Meeting

The public meeting will be held in the Montpelier Room of the Library of Congress, James Madison Building, 6th Floor, 101 Independence Avenue, SE., Washington, DC 20559. The process for submitting requests to attend and observe or participate in the meeting, as well as the agenda, will be published on the Web site of the U.S. Copyright Office no later than April 8, 2009.

FOR FURTHER INFORMATION CONTACT: Maria Pallante, Associate Register, Policy and International Affairs, or Michele Woods, Senior Counsel for Policy and International Affairs, by telephone at 202-707-1027, by facsimile at 202-707-8366 or by electronic mail at mpall@loc.gov or mwoo@loc.gov.

SUPPLEMENTARY INFORMATION:

Background

The United States is a Member State of the World Intellectual Property Organization (WIPO) and an active member of the Standing Committee on Copyright and Related Rights (SCCR). At recent meetings of the SCCR, WIPO facilitated discussions on the topic of copyright limitations and exceptions, including limitations and exceptions for “blind, visually impaired and other reading-disabled persons.” ² At its next meeting (May 25-29, 2009), the SCCR will continue to consider this topic, among others, and will exchange information and experiences in order to deepen its collective understanding of the issues. As part of the process, the SCCR is looking to the copyright limitations and exceptions that are currently available for the benefit of the blind, visually impaired and other reading-disabled persons around the world, and has invited Member States to provide supplementary information regarding their national laws and experiences.

² This term appears in some relevant WIPO documents. See e.g. “Conclusions of the SCCR,” November 5-7, 2008, at http://www.wipo.int/edocs/mdocs/copyright/en/sccr_17/sccr_17_www_112533.pdf (last visited on March 20, 2009).

In preparation for the meeting, the Copyright Office and the USPTO have been gathering relevant information. To date, the Copyright Office and USPTO have participated in a series of informal meetings and conference calls (primarily with stakeholders from the blind community, but also with representatives of the library, book publishing, software, motion picture, and nonprofit sectors) in which multiple specific issues have been identified and a number of common points have emerged.

On the basis of these preliminary discussions, the Copyright Office and the USPTO understand that blind and other persons with disabilities in the United States navigate many complex challenges when it comes to accessing copyrighted works. Common refrains include delays in obtaining accessible texts (with timeliness of accessible materials a particular problem for students at all levels), compatibility problems between available formats and the hardware devices employed by the reader, and inconsistencies in the quality and accuracy of the available, reformatted works. At the international level, the Copyright Office and the USPTO were made aware of the existing framework through which accessible works move across borders (i.e. through private agreement and interlibrary programs), as well as some of the difficulties the framework presents.

Possible Actions

Through discussions with stakeholders and previous meetings of the SCCR, the Copyright Office and USPTO are aware of some measures that might be appropriate for action at the national or international levels (through Member States, WIPO or other mechanisms). Such possible actions include the following: (1) Developing standardized accessibility formats and other technical norms; (2) establishing trusted intermediaries to coordinate resources, eliminate unnecessary duplication of accessible works, and ensure best practices; (3) providing technical assistance, coordination, and educational outreach; (4) promoting market-based solutions achieved through private sector copyright licenses or other agreements; and (5) developing binding or non-binding international instruments, including a treaty that would establish minimum requirements for limitations and exceptions for blind, visually impaired and other reading-disabled persons. The Copyright Office and the USPTO are interested in learning how these areas of focus might address existing difficulties with access to copyright works, whether applied alone or in combination with each other. Suggestions as to measures not covered above are also welcome.

Please note that WIPO posts various documents from its meetings on its Web site, including reports and agendas related to the consideration of copyright limitations and exceptions. Documents from SCCR meetings that included consideration of this issue can be found by starting at http://www.wipo.int/meetings/en/topic.jsp?group_id=62 and following the link to information for each specific meeting. A study on copyright limitations and exceptions for the visually impaired can be found at http://www.wipo.int/meetings/en/doc_details.jsp?doc_id=75696.

Subjects of Inquiry

At this time, in order to allow further opportunity for interested persons to provide their views, the Copyright Office and the USPTO are seeking comment on several focused topics related to the provision of access to copyrighted works for blind and other persons with disabilities. Unless otherwise specified, the focus of the inquiry is the experiences of interested parties residing or doing business in the United States. Nevertheless, parties should not feel constrained from describing transnational experiences and situations if they are illustrative of a problem or success.

A. Experiences of Persons Within the United States With Respect To Accessing U.S. Works or Sharing Accessible Copies Within the United States

In general, the Copyright Office and the USPTO seek to learn more about the experiences of the blind or persons with other disabilities with respect to accessing and sharing U.S. copyrighted works within the United States. Please reference any specific policies, practices and projects that exist or are emerging in the education, library and business sectors while considering the questions set forth below.

1. Applicable Statutory or Regulatory Provisions: The United States has relevant existing limitations on exclusive rights in the Copyright Act. Section 121 (the so-called “Chafee Amendment”) authorizes the reproduction of copyrighted works for blind or other persons with disabilities under certain circumstances. Section 121(a) contains general language providing that it is not copyright infringement “for an authorized entity to reproduce or to distribute copies or phonorecords of a previously published, nondramatic literary work if such copies or phonorecords are produced or distributed in specialized formats exclusively for use by blind or other persons with disabilities.” Section 121(c) provides a specific limitation applicable to publishers of “print instructional materials for use in elementary or secondary schools” so that they may create and distribute electronic files consistent with the Individuals with Disabilities Education Act (IDEA). 17 U.S.C. 21(c). Those electronic files must use the National Instructional Material Accessibility Standard (NIMAS). Id. How have the Chafee Amendment and related statutory and regulatory provisions worked in practice?

2. Private Sector Initiatives: The Copyright Office and the USPTO are aware that book publishers have been involved in the development and implementation of Section 121 and other laws applicable to disabilities and education. What are additional ways in which the private sector facilitates, or plans to facilitate, access to copyrighted works? Please identify and describe in detail any existing business models, licensing schemes, or technological innovations that are relevant, not only for books but for other copyrighted works, e.g., magazines, newspapers, motion pictures, and software. To date, what has been the result of these efforts in terms of achieving accessible content? Do best practices exist? Turning to the nonprofit sector, what are the activities, business models, or technology platforms that have emerged and what has been the result to date? What if any are the additional projects under consideration?

3. Library Programs: Libraries play an important role in providing access to copyrighted works for the blind or persons with other disabilities. The Library of Congress, through its National Library Service for the Blind and Physically Handicapped, provides Braille and audio materials (e.g., talking books) to eligible borrowers through cooperating libraries in the United States. NLS also provides interlibrary loan services to citizens of other countries through qualified libraries or other institutions in those countries. Private organizations, such as Bookshare, provide access to digital materials through an online searchable library. What other sorts of libraries or library services currently facilitate access to copyrighted works? What physical and digital delivery methods are being used? What initiatives have libraries taken to develop new services and to respond to evolving needs and technologies? What coordination exists among national and international library services?

4. Standardized Formats, Programs and Devices: In recent years, entrepreneurs and other representatives of the blind or persons with other disabilities have made significant progress in efforts to upgrade and standardize the technical formats, programs and devices that allow access to books and other text. These include the talking-book format of DAISY (Digital Accessible Information System) that is compatible with screen readers, as well as stationary and portable DAISY players that feature synthetic-voices, and various versions of scan-and-read software. Paper-based Braille has evolved into digital formats that offer refreshable displays and nonlinear search capabilities when used with applicable devices. Are there additional innovations in use or under development today and, if so, what is their focus? What are the impediments, and possible solutions, for improving existing standardized formats, programs and devices, developing new ones, and/or facilitating their interoperability?

5. Resources: To what degree is a lack of sufficient resources a factor in providing access to the blind or persons with other disabilities? What governmental, private sector, nonprofit, or philanthropic resources exist? What types of resources are most needed? What approaches to expanding available resources are most promising? What objectives could be met and in what time frame if additional resources were available?

B. Experiences of Persons Within the United States With Respect To Accessing Foreign Works or Sharing Accessible Copies of U.S. Works With Foreign Persons

Please comment on the experiences of the blind or persons with other disabilities with respect to accessing foreign works within the United States, or sharing accessible copies of U.S. works with similarly-situated persons outside the United States. What kinds of specific policies, practices and projects exist or are emerging in the education, library and business sectors? How do existing laws create incentives or constrain efforts? Please describe the ways in which technology has influenced or could assist in providing access to foreign works or the sharing of accessible copies. What are the legal or practical impediments to transnational access and how are they interrelated?

C. Other Comments on Facilitating and Enhancing Access to Copyrighted Works

Please comment on the likely success of measures identified above under the subsection entitled “Possible Actions” under SUPPLEMENTARY INFORMATION. How might the measures best be leveraged, alone or in combination, to enhance access for the blind or other persons with disabilities? Are there additional governmental or private sector actions that might serve the objective of enhancing access to copyrighted works for the blind or persons with other disabilities?

Dated: March 20, 2009.
Maria Pallante,
Associate Register for Policy & International Affairs, U.S. Copyright Office.

[FR Doc. E9-6637 Filed 3-25-09; 8:45 am]

BILLING CODE 1410-30-P